DEPARTMENT OF THE INTERIOR

Minerals Management Service

Outer Continental Shelf (OCS) Gulf of Mexico OCS Region, Mid-Atlantic Proposed Oil and Gas Lease Sale 220

AGENCY: Minerals Management Service (MMS), Interior.

ACTION: Notice of extension of public comment period.

SUMMARY: The Minerals Management Service hereby gives notice that it is extending the public comment period for the Proposed Oil and Gas Lease Sale 220 Call for Information and Interest/Nominations (Call) and Notice of Intent (NOI) to prepare an Environmental Impact Statement (EIS) which was published in the Federal Register on November 13, 2008, (Volume 73, No. 220) for an additional 15 days. Please see the above notice for more detailed information. Due to the holidays, the MMS will extend the comment period from December 29, 2008, to January 13, 2009.

DATES: Comments must be received no later than January 13, 2009.

FOR FURTHER INFORMATION CONTACT: For information on the Call, please contact Mr. Carrol Williams, Sales and Support Unit Supervisor, Minerals Management Service, Gulf of Mexico OCS Region, 1201 Elmwood Park Boulevard, New Orleans, Louisiana 70123-2394, Telephone: (504) 736-2803. For information on the NOI, you may contact Mr. Gary Goeke, National Environmental Policy Act/Coastal Zone Management Coordination Unit Supervisor, Minerals Management Service, Gulf of Mexico OCS Region, 1201 Elmwood Park Boulevard, New Orleans, Louisiana 70123-2394, Telephone: (504) 736-3233.

Dated: December 19, 2008.
Randall B. Luthi,
Director, Minerals Management Service.

[FR Doc. E8-31473 Filed 1-6-09; 8:45 am]

BILLING CODE 4310-MR-P